DEPARTMENT OF ENERGY

Federal Energy Regulatory Commission

[Docket No. RP98-52-000]

Williams Gas Pipelines Central, Inc.; Notice of Informal Settlement Conference

September 11, 2000.

An informal settlement conference in the above docket will be held on Friday, September 22, 2000, in the Trianon A/B Room, Kansas City Marriott Downtown, 200 West 12th Street, Kansas City, MI 64105. The informal settlement conference will begin at 10:30 a.m.

All interested parties in the above docket are requested to attend the informal settlement conference. If a party has any questions regarding the conference, please call Richard Miles, the Director of the Dispute Resolution Service. His telephone number is 1 877 FERC ADR (337-2237) or 202/208-0702 and his e-mail address is richard.miles@ferc.fed.us. If you plan on attending the conference, please R.S.V.P. to Jamie Capps at Williams by e-mail at jamie.capps@williams.com, by fax at 918/573-4195 or by phone at 918/573-4218 so that appropriate accommodations may be made.

Linwood A. Watson, Jr.,
Acting Secretary.

[FR Doc. 00-23713 Filed 9-14-00; 8:45 am]

BILLING CODE 6717-01-M